DEPARTMENT OF COMMERCE

National Oceanic and Atmospheric Administration

Availability of Seats for the Gray's Reef National Marine Sanctuary Advisory Council

AGENCY: National Marine Sanctuary Program (NMSP), National Ocean Service (NOS), National Oceanic and Atmospheric Administration, Department of Commerce (DOC).

ACTION: Notice and request for applications.

SUMMARY: The Gray's Reef National Marine Sanctuary (GRNMS or Sanctuary) is seeking applicants for the following vacant seats on its Sanctuary Advisory Council (Council): Local Conservation, University Education, and Living Resources Research.

Applicants are chosen based upon their particular expertise and experience in relation to the seat for which they are applying; community and professional affiliations; philosophy regarding the protection and management of marine resources; and possibly the length of residence in the area affected by the Sanctuary. Applicants who are chosen as members should expect to serve three-year terms, pursuant to the Council's Charter.

DATES: Applications are due by September 30, 2003.

ADDRESSES: Application information may be obtained from Becky Shortland, Council Coordinator, Gray's Reef National Marine Sanctuary, 10 Ocean Science Circle, Savannah, GA 31411; telephone 912/598-2345; becky.shortland@noaa.gov. Applications should be sent to Reed Bohne, Manager, Gray's Reef National Marine Sanctuary (same address).

FOR FURTHER INFORMATION CONTACT: Contact Becky Shortland, Council Coordinator, 10 Ocean Science Circle, Savannah, GA 31410; telephone 912/598-2345; becky.shortland@noaa.gov.

SUPPLEMENTARY INFORMATION: The Sanctuary Advisory Council was established in August 1999 to provide advice and recommendations on management and protection of the Sanctuary. The Council, through its members, also serves as liaison to the community regarding Sanctuary issues and represents community interests, concerns, and management needs to the Sanctuary and NOAA (National Oceanic and Atmospheric Administration, U.S. Department of Commerce). Gray's Reef NMS is one of the largest near shore live-bottom reefs off the Southeastern United States, encompassing approximately 17 square nautical miles. The area earned sanctuary designation in 1981.

Authority: 16 U.S.C. Sections 1431, et seq.

(Federal Domestic Assistance Catalog Number 11.429 Marine Sanctuary Program)
Dated: August 29, 2003.
Richard W. Spinrad,
Assistant Administrator, Ocean Services and Coastal Zone Management, National Oceanic and Atmospheric Administration.

[FR Doc. 03-22697 Filed 9-5-03; 8:45 am]

BILLING CODE 3510-NK-M